DEPARTMENT OF THE INTERIOR

Fish and Wildlife Service

Receipt of Application for an Incidental Take Permit by Hancock Natural Resource Group, Inc. for Silvicultural Activities in Crenshaw and Covington Counties, Alabama

AGENCY: Fish and Wildlife Service, Interior.

ACTION: Notice.

Hancock Natural Resource Group, Inc. (Applicant) has requested an incidental take permit (ITP) pursuant to section 10(a)(1)(B) of the Endangered Species Act of 1973 (U.S.C. 1531 et seq.), as amended (Act). The Applicant anticipates taking the threatened Red hills salamander (Phaeognathus hubrichti) over the next 30 years incidental to forest management for timber production, road construction, and timber harvest. The anticipated take and measures to minimize and mitigate these takings will occur on 3,561 acres of the Applicant's properties in Crenshaw and Covington counties, Alabama. Absolute levels of incidental take can only be estimated based on projected population densities in various habitats in relation to proposed activities in those habitats. The applicant estimates that up to 400 salamanders may be taken. Incidental take will comprise harm resulting from habitat modification or direct physical injury or death.

To minimize and mitigate for taking of salamanders, the Applicant will survey by habitat types to classify management units for expected salamander density. The intensity of silvicultural activities (i.e., harvest rates, site preparation) will then be proportionately greater in habitats with little or no expectation of salamander occurrence. The best salamander habitats, approximately 25 acres, will be left un-harvested. A more detailed description of the mitigation and minimization measures to address the effects of the Project to the Red hills salamander is provided in the Applicant's Habitat Conservation Plan (HCP). These measures are outlined in the SUPPLEMENTARY INFORMATION section below. The Service has determined that the Applicant's proposal, including the proposed mitigation and minimization measures, will individually and cumulatively have a minor or negligible effect on the species covered in the HCP. Therefore, the ITP is a “low effect” project and would qualify as a categorical exclusion under the National Environmental Policy Act (NEPA), as provided by the Department of Interior Manual (516 DM2, Appendix 1 and 516 DM 6, Appendix 1).

The Service announces the availability of the HCP and our determination of Categorical Exclusion for the incidental take application. Copies of the HCP and Service supporting documents may be obtained by making a request to the Regional Office (see ADDRESSES). Requests must be in writing to be processed. This notice is provided pursuant to Section 10 of the Act and NEPA regulations (40 CFR 1506.6).

The Service specifically requests information, views, and opinions from the public via this Notice on the federal action, regarding the adequacy of the HCP as measured against the Service's ITP issuance criteria found in 50 CFR Parts 13 and 17.

If you wish to comment, you may submit comments by any one of several methods. Please reference permit number TE029614-0 in such comments. You may mail comments to the Service's Regional Office (see ADDRESSES). You may also comment via the internet to “david_dell@fws.gov”. Please submit comments over the internet as an ASCII file avoiding the use of special characters and any form of encryption. Please also include your name and return address in your internet message. If you do not receive a confirmation from the Service that we have received your internet message, contact us directly at either telephone number listed below (see FURTHER INFORMATION). Finally, you may hand deliver comments to either Service office listed below (see ADDRESSES). Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. We will not; however, consider anonymous comments. We will make all submissions from organizations or businesses, and from individuals identifying themselves as representatives or officials of organizations or businesses, available for public inspection in their entirety.

DATES: Written comments on the permit application, supporting documentation, and HCP should be sent to the Service's Regional Office (see ADDRESSES) and should be received on or before January 29, 2001.

ADDRESSES: Persons wishing to review the application, supporting documentation, and HCP may obtain a copy by writing the Service's Southeast Regional Office, Atlanta, Georgia. Documents will also be available for public inspection by appointment during normal business hours at the Regional Office, 1875 Century Boulevard, Suite 200, Atlanta, Georgia 30345 (Attn: Endangered Species Permits), or Field Supervisor, U.S. Fish and Wildlife Service, PO Drawer 1190, Daphne East Office Plaza, Suite A, 2001 Highway 98, Daphne, Alabama 36526-6578. Written data or comments concerning the application, or HCP should be submitted to the Regional Office. Please reference permit number TE029614-0 in requests of the documents discussed herein.

FOR FURTHER INFORMATION CONTACT: Mr. David Dell, Regional HCP Coordinator, (see ADDRESSES above), telephone: 404/679-7313, facsimile: 404/679-7081; or Ms. Barbara Allen, Fish and Wildlife Biologist, Daphne Field Office, Alabama (see ADDRESSES above), telephone: 334/441-5181.

SUPPLEMENTARY INFORMATION: The Red hills salamander is endemic to Alabama, and was listed in 1976 as a threatened species due to historic silvicultural practices, and habitat loss and fragmentation. Typical habitat of the Red hills salamander is moist, steep to moderately steep ravine slopes and bluff faces in mature, upland mixed hardwood and pine forest.

Of the 3,561 acres that would be covered by the ITP, only an estimated 200 acres offer potential habitat for the Red hills salamander. The HCP classifies potentially occupied salamander habitat into three categories: optimal, moderately suitable, and marginal. Optimal habitats are bluffs and ravines with a 27-degree angle slope or greater, or other extensive areas of steep slopes that are underlain by the Tallahatta geologic formation, and are dominated by deciduous trees. No timber harvest will be permitted in optimal habitats. Current area estimates are subject to change as additional information is obtained, but such habitat comprises an estimated 25 acres.

Moderately suitable habitats are areas of 18 to 27-degree slope within either the Tallahatta or Hatchetigbee geologic formations, and with naturally occurring mixed hardwood/pine and pine/hardwood forest types. Siltstone outcroppings may or may not be evident. These habitats may receive increased levels of selective cutting (followed by natural regeneration of tree species characteristic of Red Hills salamander habitat), provided total hardwood canopy cover is not reduced to less than 65 percent. Moderately suitable habitats comprise an estimated 100 acres.

Marginally suitable to unsuitable habitats within the Tallahatta or Hatchetigbee geologic formations occur immediately adjacent to optimal or moderately suitable habitats with naturally occurring mixed hardwood/pine or pine hardwood forest types; siltstone may or may not be evident. Normal silviculture practices will be done in these areas including clearcutting, select tree harvest, chemical and mechanical site preparation, planting, and prescribed burning. Estimated marginally suitable habitat within the Hancock property covered by the ITP is 75 acres.

Under section 9 of the Act and its implementing regulations, “taking” of endangered and threatened wildlife is prohibited. However, the Service, under limited circumstances, may issue permits to take such wildlife if the taking is incidental to and not the purpose of otherwise lawful activities. The Applicant has prepared an HCP as required for the incidental take permit application.

The biological goal of the Applicant's HCP is long term preservation of Red hills salamander population levels on optimal habitat, and to maintain a population on moderately suitable habitats over the 30-year term of the ITP. Conversion of natural forest to pine plantation within a minimum of 50 feet of occupied or potentially occupied habitat will be avoided. The following management actions will be incorporated to minimize incidental take:

1. Clearcutting will be avoided on slopes occupied by Red Hills salamanders.

2. Mechanical site preparation will be avoided within occupied habitat.

3. If an area is select cut, woody litter will be maintained to provide some shade, maintain moisture and preserve invertebrate fauna. Select cutting that maintains at least two-thirds canopy cover and creates minimal surface disturbance may not adversely impact salamander populations.

4. If areas above or below slopes occupied by salamanders are cleared, a buffer strip of natural vegetation will be left to provide shade and allow moisture retention to vegetation on the slope. Size of the buffer will vary depending on aspect, but will provide shade at all times of the day.

5. Annual monitoring will be conducted for each habitat class to assess the performance of the HCP goals and objectives. Monitoring will be conducted between April 1 and October 31. A 5-year comprehensive review of monitoring results will be conducted to better determine the density threshold below which the species may not be considered to be successfully maintained. This report will be submitted by December 31, 2005.

6. After the first ten years, a comprehensive review of permit conditions, HCP implementation, and monitoring results will be conducted.

7. Existing access roads will be used to the extent practicable, and no roads will be constructed through areas of optimal habitat. Any new road construction through moderately suitable or marginal habitat will be carefully planned so as to cause the least possible damage to the habitat and will comply with Alabama's Best Management Practices for forestry.

8. The applicant will conduct or participate in training workshops for all its foresters and technicians that work in the plan area. Workshops will train employees to recognize Red hills salamander habitat, properly establish buffers around and mark timber within occupied habitat, and to minimize impacts of machinery. Employees will be provided general biological background information, will be familiarized with general details of the HCP, and will be required to participate in the implementation of the plan.

As stated above, the Service has made a preliminary determination that the issuance of the ITP is not a major Federal action significantly affecting the quality of the human environment within the meaning of section 102(2)(C) of NEPA. This preliminary information may be revised due to public comment received in response to this notice and is based on information contained in the HCP. The Service will also evaluate whether the issuance of a section 10(a)(1)(B) ITP complies with section 7 of the Act by conducting an intra-Service section 7 consultation. The results of the biological opinion, in combination with the above findings, will be used in the final analysis to determine whether or not to issue the ITP.

Dated: December 21, 2000.
H. Dale Hall,
Acting Regional Director.

[FR Doc. 00-33331 Filed 12-28-00; 8:45 am]

BILLING CODE 4310-55-P